NATIONAL FOUNDATION ON THE ARTS AND THE HUMANITIES

National Endowment for the Arts; Arts Advisory Panel

Pursuant to Section 10(a)(2) of the Federal Advisory Committee Act (Pub. L. 92-463), as amended, notice is hereby given that nine meetings of the Arts Advisory Panel to the National Council on the Arts will be held at the Nancy Hanks Center, 1100 Pennsylvania Avenue, NW., Washington, DC 20506 as follows (ending times are approximate):

Learning in the Arts (application review): November 30-December 4, 2009 in Room 716. A portion of this meeting, from 3:30 p.m. to 4 p.m. on December 3rd, will be open to the public for policy discussion. The remainder of the meeting, from 9 a.m. to 6 p.m. on November 30th-December 2nd, from 9 a.m. to 3:30 p.m. and 4 p.m. to 6 p.m. on December 3rd, and from 9 a.m. to 4:30 p.m. on December 4th, will be closed.

Folk and Traditional Arts (application review): December 2-4, 2009 in Room 714. A portion of this meeting, from 10:30 a.m. to 11:30 a.m. on December 4th, will be open to the public for policy discussion. The remainder of the meeting, from 9 a.m. to 5:30 p.m. on December 2nd, from 8:30 a.m. to 5:30 p.m. on December 3rd, and from 8:30 a.m. to 10:30 a.m. and 11:30 a.m. to 12 p.m. on December 4th, will be closed.

Design (application review): December 3-4, 2009 in Room 730. A portion of this meeting, from 1:30 p.m. to 2:30 p.m. on December 4th, will be open to the public for policy discussion. The remainder of the meeting, from 9 a.m. to 6 p.m. on December 3rd and from 9 a.m. to 1:30 p.m. and 2:30 p.m. to 4:30 p.m. on December 4th, will be closed.

Theater (application review): December 8-11, 2009 in Room 730. This meeting, from 9 a.m. to 5:30 p.m. on December 8th, from 9 a.m. to 6 p.m. on December 9th and 10th, and from 9 a.m. to 3 p.m. on December 11th, will be closed.

Literature (application review): December 9-10, 2009 in Room 714. This meeting, from 9 a.m. to 6 p.m. on December 9th and from 9 a.m. to 6:30 p.m. on December 10th, will be closed.

Literature (application review): December 11, 2009 in Room 714. This meeting, from 9 a.m. to 5 p.m., will be closed.

American Masterpieces/Visual Arts Touring (application review): December 11, 2009 in Room 716. This meeting, from 9 a.m. to 4 p.m., will be closed.

Arts on Radio and Television (application review): December 14-16, 2009 in Room 716. This meeting, from 9 a.m. to 5:45 p.m. on December 14th, from 9 a.m. to 6 p.m. on December 15th, and from 9 a.m. to 4 p.m. on December 16th, will be closed.

Museums (application review): December 15-18, 2009 in Room 730. This meeting, from 9 a.m. to 5:30 p.m. on December 15th, from 9 a.m. to 6 p.m. on December 16th and 17th, and from 9 a.m. to 4 p.m. on December 18th, will be closed.

The closed portions of meetings are for the purpose of Panel review, discussion, evaluation, and recommendations on financial assistance under the National Foundation on the Arts and the Humanities Act of 1965, as amended, including information given in confidence to the agency. In accordance with the determination of the Chairman of February 28, 2008, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202-682-5691.

Dated: November 12, 2009.
Kathy Plowitz-Worden,
Panel Coordinator, Panel Operations, National Endowment for the Arts.

[FR Doc. E9-27531 Filed 11-16-09; 8:45 am]

BILLING CODE 7537-01-P